DEPARTMENT OF THE INTERIOR

Bureau of Indian Affairs

Proposed Information Collections Under the Paperwork Reduction Act; Comment Request

AGENCY: Bureau of Indian Education, Interior.

ACTION: Notice of Proposed Renewal Information Collection.

SUMMARY: The Bureau of Indian Education (BIE) is submitting the information collection, titled the BIE Higher Education Grant Program Annual Report Form, OMB Control Number 1076-0106, and the BIE Higher Education Grant Application Form, OMB Control Number 1076-0101 for approval. The Higher Education Annual Grant Report Form and the Higher Education Grant Application need to be renewed.

DATES: Submit comments on or before December 17, 2007.

ADDRESSES: Please send comments to Mr. Kevin Skenandore, Director, Bureau of Indian Education, Office of the Director, 1849 C Street, NW/MS-3609 MIB, Washington, DC 20240, facsimile number (202) 208-3312.

FOR FURTHER INFORMATION CONTACT: You may request further information or obtain copies of the information collection request submission from Keith Neves, Office of Planning, Bureau of Indian Education, 1849 C Street, NW., MS-3609/MIB, Washington, DC 20240.

SUPPLEMENTARY INFORMATION: The BIE Higher Education Grant Program Annual Report Form (OMB No. 1076-0106) provides a profile of program financial data from which we derive a national analysis of supplemental funding, unmet financial needs of eligible students and college graduation rates. Authority for the collection of information is contained in Pub. L. 93-638, The Indian Self-Determination and Education Assistance Act of 1975, as amended. The BIE Higher Education Grant Application (OMB No. 1076-0101) provides for an annual collection of information required to make a determination in the eligibility of funding for an applicant. The information collection is mandatory to be considered for a benefit.

Request for Comments: The Bureau of Indian Education requests you to send your comments on this collection to the location listed in the ADDRESSES section. Your comments should address: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology. Please note that an agency may not sponsor or request, and an individual need not respond to, a collection of information unless it has a valid OMB Control Number.

It is our policy to make all comments available to the public for review at the Bureau of Indian Education location listed in the ADDRESSES section, room 3609, during the hours of 8 a.m.-4 p.m., Monday through Friday except for legal holidays. If you wish to have your name and/or address withheld, you must state this prominently at the beginning of your comments. We will honor your request according to the requirements of the law. All comments from organizations or representatives will be available for review. We may withhold comments from review for other reasons.

OMB Approval Number: 1076-0106.

Title: BIE Higher Education Grant Program Annual Report Form.

Brief Description of Collection: Respondents who receive a grant are required to submit an annual report. Submission of an annual report is mandatory for receiving a benefit.

Type of Review: Renewal.

Respondents: Tribal higher education program directors.

Number of Respondents: 125.

Estimated Time per Response: 3 hours.

Frequency of Response: Annual.

Total Annual Burden to Respondents: 375 hours.

OMB Approval Number: 1076-0101.

Title: BIE Higher Education Grant Program Application.

Brief Description of Collection: Respondents receiving a benefit must annually complete the form to demonstrate unmet financial need for consideration of a grant.

Type of Review: Renewal.

Respondents: Students through the tribally controlled institutions of higher education. Submission of an annual application is required for consideration in receiving a benefit.

Number of Respondents: 14,000.

Estimated Time per Response: 1 hour.

Frequency of Response: Annual.

Total Annual Burden to Respondents: 14,000 hours.

Dated: October 3, 2007.
Carl J. Artman,
Assistant Secretary—Indian Affairs.

[FR Doc. E7-20283 Filed 10-15-07; 8:45 am]

BILLING CODE 4310-6W-P